DEPARTMENT OF DEFENSE

Office of the Secretary

[Docket ID: DoD-2012-OS-0135]

Privacy Act of 1974; System of Records

AGENCY: Defense Information Systems Agency, DoD.

ACTION: Notice to add a new system of records.

SUMMARY: The Defense Information Systems Agency proposes to add a new system of records in its inventory of record systems subject to the Privacy Act of 1974 (5 U.S.C. 552a), as amended.

DATES: This proposed action will be effective on December 17, 2012 unless comments are received which result in a contrary determination. Comments will be accepted on or before December 17, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins, 6916 Cooper Avenue, Fort Meade, MD 20755-7901, or (301) 225-8158.

SUPPLEMENTARY INFORMATION: The Defense Information Systems Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on October 31, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 13, 2012.
Aaron Siegel,
Alternate OSD Federal Register Liaison Officer, Department of Defense.

K890.21 DoD

System name:

DoD Enterprise Portal Service (DEPS).

System location:

Defense Enterprise Computing Centers (DECC), 5450 Carlisle Pike Mechanicsburg, PA 17055-0975.

Defense Enterprise Computing Centers (DECC), 8705 Industrial Blvd., Bldg 3900, Tinker AFB, Oklahoma 73145-3009.

Categories of individuals covered by the system:

Department of Defense civilian employees, military personnel, and contractors.

Categories of records in the system:

Full name, DoD ID Number, birth date, email address, organizational address, telephone, and fax number, military rank/grade, military branch, and current DoD identification badge for registration and access management.

Authority for maintenance of the system:

5 U.S.C. 301, Departmental Regulations; Pub. L. 106-229, Electronic Signatures in Global and National Commerce; OASD (C3I) Policy Memorandum, subject: Department of Defense (DoD) Public Key Infrastructure (PKI); and OASD (C3I) Memorandum, subject: Common Access Card (CAC).

Purpose(s):

DEPS will utilize Microsoft Office SharePoint Server as an integrated suite of server capabilities that will improve organizational effectiveness by providing comprehensive content management and enterprise search, accelerating shared business processes, and facilitating information-sharing across boundaries for better business insight. Additionally, this collaboration and content management server provides information technology (IT) professionals and developers with the platform and tools they need for server administration, application extensibility, and interoperability.

Routine uses of records maintained in the system, including categories of users and the purposes of such uses:

In addition to those disclosures generally permitted under 5 U.S.C. 552a(b) of the Privacy Act of 1974 as amended, these records contained therein may specifically be disclosed outside the DoD as a routine use pursuant to 5 U.S.C. 552a(b)(3) as follows:

The DoD Blanket Routine Uses set forth at the beginning of the DISA's compilation of systems of records notices may apply to this system.

Policies and practices for storing, retrieving, accessing, retaining, and disposing of records in the system:

Storage:

Electronic storage media.

Retrievability:

Retrieved by full name.

Safeguards:

Records are maintained in a controlled facility. Physical entry is restricted by the use of locks, guards, password protection, and encryption and is accessible only to authorized personnel. Access to records is limited to person(s) responsible for servicing the record in performance of their official duties and who are properly screened and cleared for need-to-know. Access to computerized data is restricted by Common Access Card (CAC) and/or password which are changed periodically. Additionally, users receive training and awareness notices on the proper marking of sensitive information. Host Based Security System (HBSS) is operational and provides mechanisms to protect, detect, track, and report malicious computer-related activities in near real-time.

Retention and disposal:

Disposition pending (until the National Archives and Records Administration approves retention and disposal schedule, records will be treated as permanent).

System manager(s) and address:

DEPS Program Manager, Enterprise Services Division, Defense Information Systems Agency, Acquisition Building, 6914 Cooper Ave, Ft. Meade, MD 20755-7088.

Notification procedure:

Individuals seeking to determine whether information about themselves is contained in this system of records should address written inquiries to the Defense Information Systems Agency (DISA), Defense Enterprise Service Directorate (ESD), 6914 Cooper Ave, Fort Meade, MD 20755-7088.

Written requests should contain the full name of the requesting individual, current DoD identification badge or a copy of driver's license as proof of identity. The requester may also visit the system manager listed above.

Record access procedures:

Individuals seeking access to information about themselves contained in this system of records should address written inquiries to the Defense Information Systems Agency, Defense Enterprise Service Directorate (ESD), 6914 Cooper Ave, Fort Meade, MD 20755-7088.

Written requests should contain the full name of the requesting individual, current DoD identification badge or a copy of driver's license as proof of identity. The requester may also visit the system manager listed above.

Contesting record procedures:

DISA's rules for accessing records, for contesting content and appealing initial agency determinations are published in DISA Instruction 210-225-2; 32 CFR part 316; or may be obtained from the systems manager at the Defense Information Systems Agency (DISA), Defense Enterprise Service Directorate (ESD), 6914 Cooper Ave, Fort Meade, MD 20755-7088.

Record source categories:

Data obtained and manually entered by system administrators.

Exemptions claimed for the system:

None.

[FR Doc. 2012-27915 Filed 11-15-12; 8:45 am]

BILLING CODE 5001-06-P